DEPARTMENT OF DEFENSE

Department of the Army

[Docket ID: USA-2023-HQ-0014]

Proposed Collection; Comment Request

AGENCY: U.S. Army Corps of Engineers (USACE), Department of the Army, Department of Defense (DoD).

ACTION: 60-Day information collection notice.

SUMMARY: In compliance with the Paperwork Reduction Act of 1995, the U.S. Army Corps of Engineers announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 19, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to U.S. Army Corps of Engineers, 441 G Street NW, Washington, DC 20314-1000, ATTN: Ms. Kathryn Nevins, or call 703-428-6440.

SUPPLEMENTARY INFORMATION:

Title; Associated Form; and OMB Number: Managed Aquifer Recharge Planning and Guidance Study; OMB Control Number 0710-MARP.

Needs and Uses: The survey will inform the development of a screening tool and other resources for USACE Districts to identify optimal sites for Managed Aquifer Recharge (MAR), which uses captured surface water to replenish groundwater. The Water Resources Development Act (WRDA) of 2016 provides authority for water supply conservation projects for drought resilience and water supply availability studies for water resources development (Sections 1116 and 1118, respectively). The WRDA of 2016 further requires USACE to consider natural and nature-based features, such as MAR, as potential solutions to address various challenges along with other measures. However, USACE has not developed a strategic framework for incorporating MAR into its operations. Furthermore, the Institute for Water Research concluded that Districts only engage with aquifer recharge in an “ad hoc” manner and recommended that USACE “upgrade its internal capacity in MAR.” (IWR 2020). The WRDA of 2022 instructs USACE to “conduct a study at Federal expense to determine the feasibility of carrying out managed aquifer recharge projects to address drought, water resiliency, and aquifer depletion.” Following these recommendations, the proposed work contributes to the development of guidance on MAR. This aligns with Civil Works strategies for flood risk management, restoration of aquatic ecosystems in floodplains, and developing environmentally sustainable technical services that enhance public safety and require collaborative partnerships.

The U.S. Army Corps of Engineers—Engineer Research and Development Center (ERDC) has partnered with Arizona State University (ASU) through the Cooperative Ecosystems Studies Units (CESU) Network to complete the “Managed Aquifer Recharge Planning and Guidance Study” and meet the above goals and directives. The design of an effective screening tool and other resources for implementing MAR requires information held by key stakeholders and decision-makers to understand the challenges and needs associated with implementing MAR in regions around the nation. Developing the screening tool and other resources will further require identifying practitioners and stakeholders interested in participating in pilot projects.

The ASU Principal Investigator and research team will deploy a survey to inform the development of a MAR screening tool by gathering information about the knowledge, perceptions, and attitudes of stakeholders and decision-makers about MAR. The survey will target a purposively developed sample of key water and floodplain stakeholders and decision-makers from across the continental United States.

Affected Public: Individuals or households; not-for-profit Institutions; State, local or Tribal government.

Annual Burden Hours: 400.

Number of Respondents: 1,600.

Responses per Respondent: 1.

Annual Responses: 1,600.

Average Burden per Response: 15 minutes.

Frequency: One-time.

Dated: October 16, 2023.
Aaron T. Siegel,
Alternate OSD Federal Register Liaison Officer, Department of Defense.

[FR Doc. 2023-23129 Filed 10-19-23; 8:45 am]

BILLING CODE 6001-FR-P